DEPARTMENT OF AGRICULTURE

Grain Inspection, Packers and Stockyards Administration

[03-A-W]

Designation of Keokuk (IA) To Provide Class X or Class Y Weighing Services

AGENCY: Grain Inspection, Packers and Stockyards Administration (USDA).

ACTION: Notice.

SUMMARY: GIPSA announces the designation of Keokuk Grain Inspection Service (Keokuk) to provide Class X or Class Y weighing services under the United States Grain Standards Act, as amended (Act).

EFFECTIVE DATE: August 6, 2003.

ADDRESSES: USDA, GIPSA, Janet M. Hart, Chief, Review Branch, Compliance Division, STOP 3604, Room 1647-S, 1400 Independence Avenue, SW., Washington, DC 20250-3604.

FOR FURTHER INFORMATION CONTACT: Janet M. Hart, at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the March 8, 2001, Federal Register (66 FR 13875), GIPSA announced the designation of Keokuk to provide official inspection services under the Act, effective May 1, 2001, and ending March 31, 2004. Subsequently, Keokuk asked GIPSA to amend their designation to include official weighing services. Section 7A(c)(2) of the Act authorizes GIPSA's Administrator to designate authority to perform official weighing to an agency providing official inspection services within a specified geographic area, if such agency is qualified under section 7(f)(1)(A) of the Act. GIPSA evaluated all available information regarding the designation criteria in section 7(f)(1)(A) of the Act, and determined that Keokuk is qualified to provide official weighing services in their currently assigned geographic area.

Effective August 6, 2003, and terminating March 31, 2004 (the end of Keokuk's designation to provide official inspection services), Keokuk's present designation is amended to include Class X or Class Y weighing within their assigned geographic area, as specified in the September 1, 2000, Federal Register (65 FR 53263). Official services may be obtained by contacting Keokuk at 319-524-6482.

Authority: Pub. L. 94-582, 90 Stat. 2867, as amended (7 U.S.C. 71 et seq.).

Donna Reifschneider,
Administrator, Grain Inspection, Packers and Stockyards Administration.

[FR Doc. 03-22307 Filed 8-29-03; 8:45 am]

BILLING CODE 3410-EN-P